DEPARTMENT OF TRANSPORTATION

Federal Railroad Administration

Environmental Impact Statement for the Chicago, IL to St. Louis, MO High Speed Rail Program Corridor

AGENCY: Federal Railroad Administration (FRA), U.S. Department of Transportation (DOT).

ACTION: Notice of Intent to Prepare an Environmental Impact Statement.

SUMMARY: FRA is issuing this notice to advise the public that FRA with the Illinois Department of Transportation (IDOT) will jointly prepare a Tier 1 Environmental Impact Statement (EIS) for the Chicago, IL to St. Louis, MO High Speed Rail Corridor Program in compliance with the National Environmental Policy Act of 1969 (NEPA). This study will analyze a range of reasonable corridor-level route alternatives between Chicago and Joliet, and will examine additional improvements between Joliet and St. Louis to support additional passenger trains. The EIS will consider increasing the number of frequencies of high-speed passenger rail service, as well as increasing the currently planned maximum speed of such service, in the Chicago to St. Louis Corridor (Corridor). FRA is issuing this notice to solicit public and agency input into the development of the scope of the EIS and to advise the public that outreach activities conducted by FRA and IDOT will be considered in the preparation of the EIS. Alternatives under consideration include taking no action, as well as several build alternatives between Chicago and Joliet, IL, through the City of Springfield, and for the approach to St. Louis, MO.

DATES: Two agency scoping meetings and five public scoping meetings will be held during March, 2011. Public scoping meetings will be advertised locally and are scheduled for the following cities on the dates indicated below from 4 p.m.-7 p.m.

• March 1, 2011: Joliet, IL

• March 2, 2011: Bloomington-Normal, IL

• March 3, 2011: Springfield, IL

• March 8, 2011: Carlinville, IL

• March 9, 2011: Alton, IL

Agency scoping meetings will be held March 1, 2011 in Joliet, IL and March 3, 2011 in Springfield, IL at 10 a.m. Detailed information on the meeting locations is available on the following Web site: http://www.idothsr.org. Persons interested in providing written comments on the scope of the EIS should do so by March 18, 2011. Written comments on the scope of the EIS should be provided to IDOT by March 18, 2011 at the address below.

ADDRESSES: Written comments on the scope of this study should be sent to Mr. George Weber, Acting Deputy Director, Department of Intermodal and Public Transit, Illinois Department of Transportation, 100 West Randolph Street, Suite 6-600, Chicago, Illinois 60601, telephone (312) 793-4222.

FOR FURTHER INFORMATION CONTACT: Ms. Wendy Messenger, Office of Railroad Development, Federal Railroad Administration, 1200 New Jersey Avenue, SE., (Mail Stop 20), Washington, DC 20590, telephone (202) 493-6396; or Mr. George Weber, telephone (312) 793-4222 at the above address. Information and documents regarding the environmental review process will be made available through the following Web site: http://www.idothsr.org.

SUPPLEMENTARY INFORMATION: FRA, in cooperation with IDOT, will prepare a Tier 1 EIS for the High Speed Rail program from Chicago, IL to St. Louis, MO. The objectives of the proposed Project are to meet current and future regional travel needs through significant improvements to the level and quality of passenger rail service along the Corridor. Specifically, the EIS will consider increasing the frequency of high-speed passenger trains between Chicago and St. Louis and will consider increasing train speeds above the 110 mph maximum speed currently planned in the Corridor. The proposed service improvements examined in this EIS will build upon the approximately $1.1 billion of improvements currently being completed in the Corridor by IDOT and FRA pursuant to a grant/cooperative agreement funded by the American Recovery and Reinvestment Act (ARRA) (this work is based upon a 2003 EIS for the Corridor and a 2004 Record of Decision). Those improvements, which include infrastructure improvements, communications and signaling installation, stations improvements, and rolling stock equipment procurement, will increase passenger rail speeds from 79 mph to 110 mph for the existing Corridor services.

The proposed Tier 1 EIS described in this notice will examine a range of reasonable corridor-level alternative routes between Chicago and Joliet, and will examine additional improvements between Joliet and St. Louis to support additional passenger trains while accommodating the anticipated growth in freight rail traffic. The EIS will assess: Changing the existing rail corridor from one track to two tracks; increasing the number of high-speed passenger trains; potential corridor route alternatives between Chicago and Joliet, IL, through the City of Springfield, and for the approach to St. Louis, MO; and the associated transportation and environmental impacts. Train speed increases above the 110 mph maximum speed currently planned in the Corridor may be considered in the alternatives analysis. It is anticipated that the EIS will examine the viability of Chicago-Joliet corridors utilizing the Canadian National (CN) and Metra Rock Island District (RID), as well as other reasonable corridors between Chicago and Joliet that could support high speed rail passenger service.

IDOT and FRA propose to not examine the Norfolk Southern-Canadian National alignment between Dwight and Chicago in the Tier 1 EIS. This alignment was considered in the 2003 EIS for the Corridor to serve a proposed South Suburban Airport. IDOT and FRA propose to not examine this alignment because it would divert intercity passenger rail service from the larger populations currently served in the Chicago-Joliet corridor, and the South Suburban Airport area is served by an existing commuter rail service to Chicago. Additionally, the Norfolk Southern Railroad does not support the introduction of high-speed passenger rail to its facilities because of limited existing infrastructure and a limited ability to expand capacity in the corridor. The agencies have concluded that it is not a reasonable alternative for meeting the Project purpose and need. Elimination of the Norfolk Southern-Canadian National alignment will result in a single corridor to be studied between Dwight and Joliet utilizing the Union Pacific (UP) Railroad.

The No-Build Alternative will represent the no action alternative and will be used as a baseline for comparison of all alternatives. The No-Build Alternative represents other transportation modes, such as auto, air travel, intercity bus, and existing rail, and the physical characteristics and capacities as they exist at the time of the Tier 1 EIS, with planned and funded improvements that will be in place at the time the Project would become operational.

Environmental Review Process: The EIS will be developed in accordance with Council on Environmental Quality (CEQ) regulations (40 CFR part 1500 et seq.) implementing the National Environmental Policy Act of 1969 (NEPA) (42 U.S.C. 4321 et seq.), and FRA's Procedures for Considering Environmental Impacts (64 FR 28545; May 26, 1999). The FRA and IDOT will use a tiered process, as provided for in 40 CFR 1508.28 and in accordance with FRA guidance, in the completion of the environmental review of the Project. “Tiering” is a staged environmental review process applied to environmental reviews for complex projects. The Tier 1 EIS will address broad corridor-level issues and alternatives. Subsequent phases or tiers will analyze site-specific component projects and alternatives based on the decisions made in Tier 1.

Tier 1: The Tier 1 assessment will result in a NEPA document with the appropriate level of detail for corridor-level decisions and will address broad overall issues of concern, including but not limited to:

• Confirm the purpose and need for the proposed action.

• Define the study area appropriate to assess reasonable alternatives.

• Identify a comprehensive set of goals and objectives for the corridor in conjunction with Project stakeholders. These goals and objectives will be crafted to allow comprehensive evaluation of all aspects of the Project necessary to achieve the goals, including train operations, vehicles, and infrastructure.

• Identify the range of reasonable alternatives to be considered, consistent with the current and planned use of the corridor and the existing services within and adjacent to the study area, including changing the existing rail corridor from one track to two tracks, considering alternative corridors between Chicago and Joliet and in the St. Louis area, and considering a no action/no build alternative.

• Develop alternatives evaluation criteria to identify alternatives that meet the purpose and need of the proposed action and those that do not.

• Identify the general alignment(s) of the reasonable alternatives.

• Identify right-of-way requirements for the reasonable alternatives.

• Identify the infrastructure and equipment investment requirements for the reasonable alternatives.

• Identify the operational changes required for the reasonable alternatives.

• Describe the environmental impacts associated with the proposed changes in passenger rail train frequency, speed, and on-time performance.

• Characterize the environmental consequences of the reasonable alternatives.

• Establish the timing and sequencing of independent actions to maintain a state of good repair and to implement the proposed action.

• Evaluate and consider the potential for environmental impacts associated with the reasonable alternatives.

• Identify a preferred alternative for corridor route alignment.

• Address component projects for Tier 2 NEPA documentation as described below.

Tier 2: The second tier assessment(s) will address component projects to be implemented within the overall rail corridor improvement alternative selected in the Tier 1 EIS, and will incorporate by reference the data and evaluations included in the Tier 1 EIS. The Springfield Rail Corridor is the only current activity presently identified as a Tier 2 level evaluation to be included in this Tier 1 EIS; it will be combined with the Tier 1 EIS but may be separately actionable to determine site-specific as well as corridor-level improvements within its study limits and is described below.

Springfield Railroad Corridor: Freight traffic through Springfield is expected to increase significantly over the next several years, and IDOT's plans for increasing the number of frequencies of high-speed passenger train service between Chicago and St. Louis as well as the maximum speed of the passenger train service would also have an impact on Springfield. This study will analyze alternatives for accommodating the growing freight and passenger rail traffic through Springfield.

There are currently three north-south railroad corridors through Springfield. Generally, these corridors exist along Third Street (Union Pacific), Tenth Street (primarily Norfolk Southern), and Nineteenth Street (primarily Canadian National). There are 73 at-grade crossings along these three corridors in the study area, which create traffic congestion and safety issues when trains traverse the city. The Union Pacific Railroad is constructing a new intermodal rail yard near Joliet, Illinois, which is anticipated to generate increased freight traffic on the Third Street corridor. The combination of increased passenger trains and increased Union Pacific freight trains would likely require a second track on the Third Street corridor to accommodate the greater number of trains per day.

Build alternatives to accommodate this increase in rail traffic will be studied. In addition, the No-Build Alternative will represent the no action alternative and will be used as a baseline for comparison of all alternatives. One build alternative involves adding a second track on the Third Street corridor to handle up to 40 freight and passenger trains per day. Another build alternative will consider moving the Third Street corridor trains, and possibly the Nineteenth Street corridor trains, to the Tenth Street corridor, where additional tracks would be built, which would consolidate Springfield's rail traffic into one corridor. Other reasonable alternatives will also be considered, such as relocating rail traffic to other or new corridors.

Related Projects: There are three ongoing rail improvement programs that relate to the Project being studied in this EIS and may be considered for indirect or cumulative impacts on the region.

The Chicago Region Environmental and Transportation Efficiency Program (CREATE) is a cooperative effort between the U.S. Department of Transportation, the State of Illinois, the City of Chicago, the Metropolitan Rail Corporation (Metra), the National Railroad Passenger Corporation (Amtrak), and six freight railroads to improve freight and passenger rail efficiency and to reduce rail/highway traffic conflicts. There are six projects specifically identified by CREATE (P1, P2, P3, EW2, P5 and P6) that may involve and affect high speed rail service within the Chicago-Joliet portion of the corridor, depending on the corridor recommendations of this EIS study. More information is available at the CREATE Web site at http://www.createprogram.org/.

The Chicago-St. Louis 220 mph High Speed Rail Express is a project concept being pursued by IDOT. This service, at speeds up to 220 mph, may utilize existing rail corridors, a new corridor, or a combination of both, and could serve different travel markets. The 220 mph concept is intended as a complementary service to the Chicago-St. Louis high speed rail service that is being evaluated by this EIS. A feasibility study was prepared in 2009 by the Midwest High Speed Rail Association; this study indicated that a completely grade-separated route could be established by modifying existing rail corridors to connect Chicago, Champaign, Decatur and Springfield, Illinois with St. Louis, Missouri, with a one-way terminal-to-terminal trip time of approximately two hours, utilizing a maximum speed of 220 mph. Also in 2009, an Expression of Interest was prepared by the French National Railways (SNCF) in response to the FRA's Request for Expression of Interest dated December 11, 2008. The SNCF proposed a high-speed rail route to be located adjacent to existing rail corridors and sharing existing rail corridors in urban approaches at lower speeds. IDOT intends to further study the 220 mph project concept, including development of an investment-grade business plan and the preparation of a separate Tier 1 EIS.

The Midwest Regional Rail Initiative (MWRRI) is an effort led by the Wisconsin Department of Transportation and supported by eight other Midwestern States to upgrade Amtrak service in those States, with maximum speeds of 79 to 110 mph depending on the level of improvements made. A Chicago-St. Louis corridor is included in MWRRI's September 2004 Executive Report and November 2006 Benefit Cost and Economic Analysis. Additional corridors proposed by MWRRI include: Chicago-Green Bay, Wisconsin; Chicago-Minneapolis, Minnesota; St. Louis-Kansas City, Missouri; Chicago-Cincinnati, Ohio; Chicago-Cleveland, Ohio; Chicago-Detroit, Michigan; Chicago-Port Huron, Michigan; Chicago-Carbondale, Illinois; Chicago-Quincy, Illinois; and Chicago-Omaha, Nebraska. Several other feeder corridors connecting smaller municipalities to the primary corridors are also included. More information is available at http://www.dot.wisconsin.gov/projects/rail.htm.

Public Involvement: Letters describing the proposed action and soliciting comments will be sent to appropriate Federal, State, and local agencies, and to private organizations and citizens who have previously expressed or are known to have interest in this proposal. A minimum of two public informational meetings will be held during the study. In addition, a public hearing will be held on the Draft EIS. Public notice will be given of the time and place of the meetings and of the hearing. The Draft EIS will be available for public and agency review and comment prior to the public hearing.

To ensure that the full range of issues related to this proposed action are addressed and that all significant issues are identified, comments and suggestions are invited from all interested parties. Comments or questions concerning this proposed action and the EIS should be directed to IDOT or FRA at the addresses provided above.

Scoping and Comments: FRA encourages broad participation in the EIS process during scoping and review of the resulting environmental documents. Comments are invited from all interested agencies and the public to ensure the full range of issues related to the proposed action, and the reasonable alternatives, are addressed and all significant issues are identified. In particular, FRA is interested in identifying areas of environmental concern where there might be a potential for significant impacts. Public agencies with jurisdiction are requested to advise FRA and IDOT of the applicable permit and environmental review requirements of each agency, and the scope and content of the environmental information that is germane to the agency's statutory responsibilities in connection with the proposed Project. Public agencies are requested to advise FRA if they anticipate taking a major action in connection with the proposed Project and if they wish to cooperate in the preparation of the EIS. Public scoping meetings have been scheduled as an important component of the scoping process for both the State and Federal environmental review. The scoping meetings described in this Notice will also be the subject of additional public notification.

FRA is seeking participation and input of all interested Federal, State, and local agencies, Native American groups, and other concerned private organizations and individuals on the scope of the EIS. This Project is a federal undertaking with the potential to affect historic properties. As such, it is subject to the requirements of section 106 of the National Historic Preservation Act of 1966 (NHPA) (16 U.S.C. 470(f)). In accordance with regulations issued by the Advisory Council on Historic Preservation, 36 CFR part 800, FRA intends to coordinate compliance with section 106 of the NHPA with the preparation of the EIS, beginning with the identification of consulting parties through the scoping process, in a manner consistent with the standards set out in 36 CFR 800.8.

Issued in Washington, DC, on February 9, 2011.
Mark E. Yachmetz,
Associate Administrator for Railroad Policy and Development.

[FR Doc. 2011-3248 Filed 2-11-11; 8:45 am]

BILLING CODE 4910-06-P